DEPARTMENT OF JUSTICE

[OJP(OJJDP)-1330]

Office of Juvenile Justice and Delinquency Prevention

Announcement of the Juvenile Mentoring Program Discretionary Competitive Assistance Program

AGENCY: Office of Justice Programs, Office of Juvenile Justice and Delinquency Prevention, Justice.

ACTION: Notice of solicitation and availability of the Juvenile Mentoring Program (JUMP) Program Announcement.

SUMMARY: The Office of Juvenile Justice and Delinquency Prevention (OJJDP), pursuant to part G, section 288 of the Juvenile Justice and Delinquency Prevention (JJDP) Act of 1974, as amended (42 U.S.C. 5601 et seq.), is requesting applications for funding to support the Juvenile Mentoring Program (JUMP).

DATES: Applications for JUMP funding must be received by March 25, 2002.

ADDRESSES: All application packages must be mailed or delivered to the Office of Juvenile Justice and Delinquency Prevention, c/o Juvenile Justice Resource Center, 2277 Research Boulevard, Mail Stop 2K, Rockville, Maryland 20850; 301-519-5535. Interested applicants can obtain a copy of the OJJDP JUMP Discretionary Program Announcement and the OJJDP Application Kit from OJJDP's Web site at www.ojjdp.ncjrs.org/grants. A limited number of copies of the JUMP Discretionary Program Announcement and the OJJDP Application Kit are also available from the Juvenile Justice Clearinghouse by calling 800-638-8736 or sending an e-mail request to puborder@ncjrs.org. The program announcement describes the program's nature and purpose, specifies eligibility requirements and selection criteria, establishes the application submission deadline, and provides contact information. Application instructions, forms (including the SF-424), and review guidelines are provided in the OJJDP Application Kit.

FOR FURTHER INFORMATION CONTACT: Travis Cain, Program Manager, Office of Juvenile Justice and Delinquency Prevention, 202-307-5914. (This is not a toll-free number.)

SUPPLEMENTARY INFORMATION:

Background

The JUMP program supports one-to-one mentoring projects for youth at risk of failing in school, dropping out of school, or being involved in delinquent activities, including gang participation and substance use. The goals of JUMP are to reduce juvenile delinquent activities and gang participation, improve academic performance, and reduce the dropout rate through a one-to-one, supportive relationship between an adult and an at-risk youth. Applications are invited from local education agencies (LEAs), public agencies, private for-profit or nonprofit organizations, and tribal nations that can demonstrate knowledge of and/or experience with mentoring programs, volunteers, and programming for at-risk youth. When an LEA is the primary applicant, it must collaborate with a public agency, private for-profit or nonprofit agency (including faith-based groups), or tribal nation. Likewise, if a public agency, private for-profit or nonprofit organization (including faith-based groups), or tribal nation is the primary applicant, it must collaborate with an LEA. OJJDP encourages applications from both new mentoring programs and mentoring programs with proven track records that want to expand mentoring activities in accordance with the JUMP goals and objectives. National organizations are not eligible to apply for JUMP funds. Grantees or collaborative entities that have received JUMP funds previously are not eligible to compete for funding through this solicitation. Applicants selected for funding will receive a one-time award of up to $220,000 for a 3-year project and budget period.

Modification to Eligibility Requirements

Prior program requirements restricted funding to applicants (LEAs, public agencies, private for-profit or nonprofit organizations, or tribal nations) that could demonstrate that the participating school(s) had 60 percent or more youth eligible for Chapter 1 funding (Elementary and Secondary Education Act of 1965). OJJDP has modified this eligibility requirement. Instead, OJJDP will give priority in the selection process to applicants that can demonstrate that the population being served is “high risk” using one of three criteria, including a disproportionately high arrest rate within the target area, disproportionately high dropout rates in the targeted schools, and schools with 60 percent or more youth eligible for Chapter 1 funding. See the JUMP Discretionary Program Announcement for details.

Reduction of the Age Requirement for Mentors

OJJDP now defines a “mentor” as an adult age 18 or older. The previous age requirement was age 21 or older.

Decrease in the Required Number of Mentor/Mentee Matches

Projects must maintain a minimum of 25 new matches each year, for a total of at least 75 matches over 3 years. The previous match requirement was 50 to 60 each year, for a total of at least 150 to 180 over 3 years.

Dated: February 5, 2002.
Terrence S. Donahue,
Acting Administrator, Office of Juvenile Justice and Delinquency Prevention.

[FR Doc. 02-3115 Filed 2-7-02; 8:45 am]

BILLING CODE 4410-18-P